DEPARTMENT OF HEALTH AND HUMAN SERVICES

Administration for Children and Families

Office of Community Services; Grant to the Community Economic Development and Information Technology

AGENCY: Office of Community Services, ACF, DHHS.

ACTION: Award announcement.

SUMMARY: Notice is hereby given that a noncompetitive grant award is being made to the Community Economic Development and Information Technology to support their national demonstration project to conduct a food e-commerce system for poor residents living in America's public housing projects to shop on-line for nutritional food.

This one-year project is being funded noncompetitively because it is expected to provide valuable information useful to this Department and other practitioners regarding research and demonstration initiatives related to welfare reform and the well being of low-income children and families. The national project will demonstrate that the New Digital Economy can offer new opportunities to all low-income communities. The cost of the project is $63,315 for one year.

CONTACT FOR FURTHER INFORMATION: Catherine Rivers, Administration for Children and Families, Office of Community Services, 370 L'Enfant Promenade, SW., Washington, DC 20447, Phone: 202-401-5252.

Dated: September 18, 2000.
Donald Sykes,
Director, Office of Community Services.

[FR Doc. 00-24414 Filed 9-21-00; 8:45 am]

BILLING CODE 4184-01-M